DEPARTMENT OF THE INTERIOR

Fish and Wildlife Service

[FWS-R5-R-2010-N137; BAC-4311-K9-S3]

Elizabeth Hartwell Mason Neck National Wildlife Refuge, Fairfax County, VA, and Featherstone National Wildlife Refuge, Prince William County, VA; Draft Comprehensive Conservation Plan and Environmental Assessment

AGENCY: Fish and Wildlife Service, Interior.

ACTION: Notice of availability; request for comments.

SUMMARY: We, the U.S. Fish and Wildlife Service (Service), announce the availability of the draft comprehensive conservation plan and the environmental assessment (CCP/EA) for Elizabeth Hartwell Mason Neck (Mason Neck) National Wildlife Refuge (NWR) and Featherstone NWR for a 45-day public review and comment period. The draft CCP/EA describes three alternatives for managing Mason Neck NWR and two alternatives for managing Featherstone NWR for the next 15 years. Alternative B is identified for both refuges as the Service-preferred alternative. Also available for public review and comment are the draft compatibility determinations, which are included as appendix B in the draft CCP/EA.

DATES: To ensure our consideration of your written comments, please send them by February 22, 2011. We will also hold public meetings. We will announce upcoming public meetings in local news media, via our project mailing list, and on our regional planning Web site, http://www.fws.gov/northeast/planning/MasonNeck_Featherstone/ccphome.html

ADDRESSES: You may submit comments or requests for copies or more information by any of the following methods. You may request hard copies or a CD-ROM of the documents.

Electronic mail: northeastplanning@fws.gov. Please include “Mason Neck and Featherstone NWRs CCP” in the subject line of your e-mail.

U.S. Postal Service: Nancy McGarigal, Natural Resource Planner, U.S. Fish and Wildlife Service, 300 Westgate Center Drive, Hadley, MA 01035.

Facsimile: Attention: Nancy McGarigal, 413-253-8468.

In-Person Drop-off, Viewing, or Pickup: Call 703-490-4979 to make an appointment during regular business hours at the Potomac River NWR Complex headquarters office, 14344 Jefferson Davis Highway, Woodbridge, VA 22191-2716.

FOR FURTHER INFORMATION CONTACT: Greg Weiler, Refuge Manager, Potomac River NWR Complex, 14344 Jefferson Davis Highway, Woodbridge, VA 22191-2716; phone: 703-490-4979; facsimile: 703-490-5631; electronic mail: fw5rw_msnnwr@fws.gov.

SUPPLEMENTARY INFORMATION:

Introduction

With this notice, we continue the CCP process for Mason Neck and Featherstone NWRs. We published our original notice of intent to prepare a CCP in the Federal Register on May 18, 2007 (72 FR 28066).

Mason Neck and Featherstone NWRs, together with Occoquan Bay NWR, comprise the Potomac River NWR Complex headquartered in Woodbridge, Virginia. Mason Neck NWR was established in 1969 as the first national wildlife refuge specifically created to protect a federally listed species. The refuge was created under the authority of the Endangered Species Preservation Act of 1966, the precursor to the current-day Endangered Species Act of 1973. The bald eagle (Haliaeetus leucocephalus), which was federally listed as threatened in 1969 was, and continues to be, the focal species of concern on the refuge. Due to successful recovery efforts throughout its range, the bald eagle was officially removed from the Federal list in 2007. It continues to be protected, however, under other Federal laws and by the Commonwealth of Virginia. Mason Neck NWR encompasses 2,277 acres of forest, marsh, and riverine habitat along Occoquan Bay and the mainstem of the tidal Potomac River. Refuge visitors engage in wildlife observation and photography, environmental education and interpretation, and fall deer hunting.

Featherstone NWR was established in 1979 with land acquired from the District of Columbia. It was further expanded in 1992 with lands donated by Prince William County. It presently encompasses 325 acres of marsh and forested riverine habitat along the southwest edge of Occoquan Bay. Its wetlands are important habitat for bald eagles, wading birds, waterbirds, and waterfowl, as well as other native species of conservation concern. The refuge is presently closed to public use and access for public safety reasons; there is currently no public parking available or safe access across the railroad tracks, which lie along the length of the refuge's western boundary.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update each CCP at least every 15 years, in accordance with the Refuge Administration Act.

Public Outreach

In March 2007, we distributed two issues of a workbook/planning newsletter, one for each refuge, to several hundred people on our project mailing list. We asked the recipients about their interest in the refuges and whether they had issues or concerns they would like us to address. We also posted the newsletters online for people to access electronically. In addition, we notified the general public of our planning kick-off and our interest in hearing about issues and concerns by publishing news releases in several local and regional newspapers. We also held two public scoping meetings in March 2007 in the cities of Woodbridge and Lorton, Virginia. The purpose of those meetings was to share information on the planning process, and to solicit management issues and concerns. Throughout the process, refuge staff have conducted additional outreach via participation in community meetings, events, and other public forums.

Key issues common to both refuges identified by the public and our partners included:

• Developing a biological program with enough depth to address concerns about the biological diversity, health, and integrity of the refuges' forests and wetlands, and with capability to monitor for climate change impacts;

• Improving water quality;

• Protecting both refuges' shorelines;

• Controlling invasive plants and forest pests;

• Controlling an over-abundant deer population;

• Creating trail connections on and off the refuges;

• Increasing opportunities for compatible public uses; and

• Providing more opportunities for hunting.

Issues specific to Mason Neck NWR include management of the great blue heron rookery at Great Marsh and management of refuge impoundments. Issues specific to Featherstone NWR include the lack of safe public access to the refuge and the proposal for a Potomac Heritage National Scenic Trail segment to run through the refuge. We have considered and evaluated all of these comments in the various alternatives addressed in the draft CCP/EA.

CCP Alternatives We Are Considering

We developed three management alternatives for Mason Neck NWR and two alternatives for Featherstone NWR based on their respective establishment purposes, the vision and goals we developed, and the issues and concerns that the public, State, and Federal agencies, and the Service raised during the planning process. A full description of each alternative is in the EA. The alternatives identify several actions in common. On both Mason Neck and Featherstone NWRs, all alternatives include measures to protect wetlands and refuge shorelines, control invasive plant species, protect cultural resources, establish baseline conditions and monitor for climate change impacts, distribute refuge revenue sharing payments, and continue participation in conservation and education partnerships.

There are other actions that differ among the alternatives. The draft CCP/EA describes each alternative in detail and relates them to the issues and concerns that arose during the planning process. Below, we provide summaries for the three Mason Neck NWR alternatives, followed by summaries for the two Featherstone NWR alternatives.

Mason Neck NWR Alternatives

Alternative A (Current Management)

This alternative is the “No Action” alternative required by the National Environmental Policy Act (NEPA). Alternative A defines our current management activities, including those planned, funded, or underway, and serves as the baseline against which to compare Alternatives B and C. Alternative A would maintain our present refuge staffing level and our visitor services facilities, including existing trails and viewing platforms. We would continue to emphasize wildlife observation and photography opportunities, and provide a fall deer hunt. Our biological program priorities would continue to be protecting the refuge's wetlands and upland forest for migratory birds, with particular emphasis on protecting nesting bald eagles and the great blue heron rookery. Controlling invasive plants would also continue to be an important part of our program.

Alternative B (Improved Management for Trust Resources)

This is the Service-preferred alternative. It combines the actions we believe would best achieve the refuge's purposes, vision and goals, and the NWRS policy on Biological Integrity, Diversity, and Environmental Health (601 FW 3). This alternative would also be best in responding to the issues that arose during the planning process.

Alternative B would improve our management of refuge habitats to support Federal trust resources and species of conservation concern. In particular, our priority would be to enhance our management of the refuge's upland forests to benefit bald eagles, great blue heron, and other forest-dependent migratory birds through measures such as prescribed fire, forest thinning, and planting of trees, to improve forest health. We would also pursue actions to improve habitat quality in the refuge's marsh habitat to benefit bald eagles, waterfowl, waterbirds, and interjurisdictional fish. These actions include working with partners to improve water quality and clean up debris in Great Marsh, upgrading the water-control structure and altering the water-level regime in Little Marsh to promote better foraging opportunities, and improving fish passage.

Both the improvement of our current trails and addition of new trails and observation platforms would offer increased opportunities for wildlife observation, photography, and interpretation. We would also expand our interpretive programs and outreach efforts to inform and involve more people in working towards refuge goals.

Alternative C (Enhanced Public Use Management)

Alternative C would manage habitat similar to Alternative A, but would expand wildlife-dependent public use programs beyond that which is proposed under either Alternatives A or B. We would devote more staff time and resources to offering new or improved compatible priority public programs. For example, we would offer a new muzzleloader deer hunting season, construct additional photography blinds, and offer more guided and self-guided wildlife observation tours and environmental education programs.

Featherstone NWR Alternatives

Alternative A (Current Management)

Similar to Alternative A for Mason Neck NWR, this alternative satisfies the NEPA requirement for a “No Action” alternative. It describes our current management priorities and activities, and serves as a baseline for comparing and contrasting Alternative B. Under Alternative A, Featherstone NWR would continue to be closed to all public use and access. Our priorities would be to protect the refuge from vandalism and trespassing, control invasive plants, and monitor for threats to wildlife and habitats.

Alternative B (Enhanced Management)

This is the Service-preferred alternative. Habitat and species management would focus on protecting sensitive nesting areas from human disturbance, and monitoring for and treating invasive plants, pests, and pathogens to avoid catastrophic loss or degradation of habitat. Under Alternative B, we would also continue to work with Prince William County to secure public parking and legal and safe pedestrian access to the refuge, which has been an issue since refuge establishment. Once that access is secured and we have the additional staff to manage those activities, we would provide opportunities for wildlife observation and nature photography on designated trails, and fishing at designated sites.

Under Alternative B, within 5 years, we would evaluate a proposal to provide opportunities for hunting. Other alternatives, including no action, would be considered in that hunt program evaluation, and there would be public involvement before making a final decision on the types of hunting opportunities offered.

Public Availability of Documents

In addition to any methods in ADDRESSES, you can view or obtain documents from the agency Web site, http://www.fws.gov/northeast/planning/MasonNeck_Featherstone/ccphome.html.

Next Steps

After this comment period ends, we will analyze the comments and address them in the form of a final CCP and finding of no significant impact.

Public Availability of Comments

Before including your address, phone number, electronic mail address, or other personal identifying information in your comments, you should be aware that your entire comment—including your personal identifying information—may be made publicly available at any time. While you can ask us in your comment to withhold your personal identifying information from public review, we cannot guarantee that we will be able to do so.

Dated: November 29, 2010.
Wendi Weber,
Acting Regional Director, U.S. Fish and Wildlife Service, Hadley, MA 01035.

[FR Doc. 2010-33340 Filed 1-4-11; 8:45 am]

BILLING CODE 4310-55-P